DEPARTMENT OF ENERGY

Federal Energy Regulatory Commission

Combined Notice of Filings #2

Take notice that the Commission received the following electric corporate filings:

Docket Numbers: EC11-114-000.

Applicants: Mississippi Power Company.

Description: Mississippi Power Company submits application for the approval of the purchase of existing generation facilities.

Filed Date: 09/02/2011.

Accession Number: 20110906-0202.

Comment Date: 5 p.m. Eastern Time on Friday, September 23, 2011.

Take notice that the Commission received the following electric rate filings:

Docket Numbers: ER11-4439-000.

Applicants: Southern California Edison Company.

Description: Southern California Edison Company submits tariff filing per 35.13(a)(2)(iii: Amend Standard LGIA Desert Sunlight Project to be effective 9/7/2011.

Filed Date: 09/06/2011.

Accession Number: 20110906-5000.

Comment Date: 5 p.m. Eastern Time on Tuesday, September 27, 2011.

Docket Numbers: ER11-4440-000.

Applicants: KAP Analytics, LLC.

Description: KAP Analytics, LLC submits tariff filing per 35.12: KAP Analytics, LLC FERC Electric MBR Tariff to be effective 10/1/2011.

Filed Date: 09/06/2011.

Accession Number: 20110906-5001.

Comment Date: 5 p.m. Eastern Time on Tuesday, September 27, 2011.

Docket Numbers: ER11-4442-000.

Applicants: Wabash Valley Power Association, Inc.

Description: Wabash Valley Power Association, Inc. submits tariff filing per 35.13(a)(2)(iii: Amendment to add MISO/PJM Riders to be effective 1/1/2012.

Filed Date: 09/06/2011.

Accession Number: 20110906-5040.

Comment Date: 5 p.m. Eastern Time on Tuesday, September 27, 2011.

Docket Numbers: ER11-4443-000.

Applicants: AK Electric Supply, LLC.

Description: AK Electric Supply, LLC submits tariff filing per 35.1: AK Steel MBR to be effective 9/6/2011.

Filed Date: 09/06/2011.

Accession Number: 20110906-5096.

Comment Date: 5 p.m. Eastern Time on Tuesday, September 27, 2011.

Docket Numbers: ER11-4444-000.

Applicants: Magnolia Energy LP.

Description: Magnolia Energy LP submits tariff filing per 35.15: Cancellation of Market-Based Rate Tariff to be effective 9/7/2011.

Filed Date: 09/06/2011.

Accession Number: 20110906-5131.

Comment Date: 5 p.m. Eastern Time on Tuesday, September 27, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 06, 2011.
Nathaniel J. Davis, Sr.,
Deputy Secretary.

[FR Doc. 2011-23405 Filed 9-13-11; 8:45 am]

BILLING CODE 6717-01-P